DEPARTMENT OF COMMERCE

National Oceanic and Atmospheric Administration

50 CFR Part 229

[Docket No. 040407106-4106-01; I.D. 040104A]

RIN 0648-AS04

List of Fisheries for 2004

AGENCY: National Marine Fisheries Service (NMFS), National Oceanic and Atmospheric Administration (NOAA), Commerce.

ACTION: Proposed rule; extension of public comment period.

SUMMARY: On April 13, 2004, the proposed List of Fisheries (LOF) for 2004 under the Marine Mammal Protection Act (MMPA) was published in the Federal Register. NMFS is extending the comment period on this proposed LOF to June 14, 2004.

DATES: Comments must be received by June 14, 2004.

ADDRESSES: Send comments to Chief, Marine Mammal Conservation Division, Attn: List of Fisheries, Office of Protected Resources, NMFS, 1315 East-West Highway, Silver Spring, MD 20910. Comments may also be sent via email to 2004LOF.comments@noaa.gov or the Federal eRulemaking portal: http://www.regulations.gov (Follow instructions for submitting comments).

Comments regarding the burden-hour estimates, or any other aspect of the collection of information requirements contained in the proposed rule, should be submitted in writing to the Chief, Marine Mammal Conservation Division, Office of Protected Resources, NMFS, 1315 East-West Highway, Silver Spring, MD 20910 and to David Rostker, OMB, by e-mail at David_Rostker@omb.eop.gov or by fax to 202-395-7285.

FOR FURTHER INFORMATION CONTACT: Kristy Long, Office of Protected Resources, 301-713-1401; Kim Thounhurst, Northeast Region, 978-281-9328; Juan Levesque, Southeast Region, 727-570-5312; Cathy Campbell, Southwest Region, 562-980-4060; Brent Norberg, Northwest Region, 206-526-6733; Bridget Mansfield, Alaska Region, 907-586-7642. Individuals who use a telecommunications device for the hearing impaired may call the Federal Information Relay Service at 1-800-877-8339 between 8 a.m. and 4 p.m. Eastern time, Monday through Friday, excluding Federal holidays.

SUPPLEMENTARY INFORMATION: On April 13, 2004, the proposed List of Fisheries for 2004 under the Marine Mammal Protection Act was published in the Federal Register (69 FR 19365). NMFS must categorize each commercial fishery on the LOF into one of three categories under the MMPA based on the level of serious injury and mortality of marine mammals that occurs incidental to the fishery. NMFS must publish in the Federal Register any necessary changes to the LOF after notice and opportunity for public comment. In the proposed LOF for 2004, NMFS proposed to elevate the Hawaii Swordfish, Tuna, Billfish, Mahi Mahi, Wahoo, Oceanic Sharks Longline/Set Line fishery from Category III (remote likelihood of or no known incidental mortality and serious injury) to Category I (frequent incidental mortality and serious injury). In addition, NMFS provided that it would convene a workshop to address the scientific bases for this proposal, and it would consider the results of the workshop and public comments in its decision to classify this fishery in the final LOF for 2004. In order to allow sufficient time to organize and convene the workshop and allow for consideration of public comment based on the workshop as well as from other sources, NMFS is extending the public comment period on the proposed LOF for 2004 from May 13, 2004, to June 14, 2004.

Dated: May 10, 2004.
Rebecca Lent,
Deputy Assistant Administrator for Fisheries, National Marine Fisheries Service.

[FR Doc. 04-10896 Filed 5-12-04; 8:45 am]

BILLING CODE 3510-22-S